DEPARTMENT OF TRANSPORTATION

Office of the Secretary

Aviation Proceedings, Agreements Filed the Week Ending March 10, 2006

The following Agreements were filed with the Department of Transportation under the Sections 412 and 414 of the Federal Aviation Act, as amended (49 U.S.C. 1382 and 1384) and procedures governing proceedings to enforce these provisions. Answers may be filed within 21 days after the filing of the application.

Docket Number: OST-2006-24132.

Date Filed: March 7, 2006.

Parties: Members of the International Air Transport Association.

Subject: PTC2 Mail Vote 475; Special Amending Resolution 010f Between Germany and Europe.

Intended effective date: 1 April 2006.

Docket Number: OST-2006-24136.

Date Filed: March 8, 2006.

Parties: Members of the International Air Transport Association.

Subject: Mail Vote 477—Resolution 010f; TC3 Japan, Korea-South East Asia; Special Passenger Amending Resolution between Japan and China (excluding Hong Kong SAR and Macao SAR).

Intended effective date: 21 March 2006.

Docket Number: OST-2006-24174.

Date Filed: March 10, 2006.

Parties: Members of the International Air Transport Association.

Subject: PSC/RESO/129 dated February 28, 2006; Finally Adopted Resolutions & Recommended Practices r1-r22; PSC/MINS/015 dated February 28, 2006; Minutes.

Intended effective date: June 1, 2006.

Renee V. Wright,
Program Manager, Docket Operations, Federal Register Liaison.

[FR Doc. E6-4630 Filed 3-29-06; 8:45 am]

BILLING CODE 4910-62-P